DEPARTMENT OF ENERGY

Federal Energy Regulatory Commission

[Project No. 2031-046]

Springville City, UT; Notice of Public Scoping for the Environmental Assessment Evaluating Issuance of a New License for the Bartholomew Hydroelectric Project in Utah County, UT

March 30, 2001.

Pursuant to the National Environmental Policy Act and procedures of the Federal Regulatory Commission, the Commission staff intends to prepare an Environmental Assessment (EA) that evaluates the environmental impacts of issuing a new license for the constructed and operating Bartholomew Project, No. 2031-046, located within Bartholomew Canyon and on Hobble Creek, in Utah County, Utah. The subject project is partially situated on federal lands within the Uinta National Forest.

The EA will consider both site-specific and cumulative environmental effects, if any, of the proposed relicensing and reasonable alternatives, and will include an economic, financial, and engineering analysis. Preparation of staff's EA will be supported by a scoping process to ensure identification and analysis of all pertinent issues.

At this time, the Commission staff does not anticipate holding any public or agency scoping meetings nor conducting a site visit. Rather, the Commission staff will issue one Scoping Document: (1) Outlining staff's preliminary evaluation of subject areas to be addressed in the EA; and (2) requesting concerned resource agencies, Native American tribes, non-governmental organizations, and individuals to provide staff with information on project area environmental resource issues that need to be evaluated in the EA.

The aforementioned scoping document will be provided to all entities and persons listed on the Commission's mailing list for the subject project. Those not on the mailing list for the Bartholomew Hydroelectric Project may request a copy of the scoping document from Jim Haimes, the project's Environmental Coordinator, at (202) 219-2780 or by contacting him by E-mail at james.haimes@ferc.fed.us.

David P. Boergers,
Secretary.

[FR Doc. 01-8378 Filed 4-4-01; 8:45 am]

BILLING CODE 6717-01-M